DEPARTMENT OF AGRICULTURE

Forest Service

Bend-Fort Rock Ranger District; Oregon; Withdrawal of Notice for Preparation of an Environmental Impact Statement for the Kapka Butte Sno-Park Construction Project

AGENCY: Forest Service, USDA. Federal Highway Administration, USDOT.

ACTION: Notice of withdrawal.

SUMMARY: The Bend-Fort Rock Ranger District and FHWA are withdrawing their intent to prepare an Environmental Impact Statement (EIS) for the Kapka Butte Sno-park Construction project. The original Notice of Intent (NOI) was published in the Federal Register on January 2, 2009 (Vol. 74, No.1, p 71-72). A Notice of Availability was published in the Federal Register on April 15, 2011 (Vol. 76, No.73, p 21345). The Forest Service has determined that an EIS is not required for this project and therefore, it was decided to document the project in an environmental assessment. Pursuant to federal regulations, the Federal Highways Administration is not required to be a co-lead agency, and will instead participate as a cooperating agency.

FOR FURTHER INFORMATION CONTACT: Amy Tinderholt, Project Leader, Bend-Fort Rock Ranger District, 63095 Deschutes Market Road, Bend, OR 97701, phone 541-383-4000.

Dated: September 14, 2012.
Kevin Larkin,
District Ranger.

[FR Doc. 2012-23188 Filed 9-19-12; 8:45 am]

BILLING CODE 3410-11-P